DEPARTMENT OF TRANSPORTATION

Federal Aviation Administration

14 CFR Part 39

[Docket No. FAA-2015-2466; Directorate Identifier 2015-CE-018-AD; Amendment 39-18273; AD 2015-19-11]

RIN 2120-AA64

Airworthiness Directives; Piaggio Aero Industries S.p.A. Airplanes

AGENCY: Federal Aviation Administration (FAA), Department of Transportation (DOT).

ACTION: Final rule.

SUMMARY: We are adopting a new airworthiness directive (AD) for Piaggio Aero Industries S.p.A. Model P-180 airplanes. This AD results from mandatory continuing airworthiness information (MCAI) issued by an aviation authority of another country to identify and correct an unsafe condition on an aviation product. The MCAI describes the unsafe condition as the need to restore the safe fatigue life of the bulkhead structure. We are issuing this AD to require actions to address the unsafe condition on these products.

DATES: This AD is effective November 3, 2015.

The Director of the Federal Register approved the incorporation by reference of certain publication listed in the AD as of November 3, 2015.

ADDRESSES: You may examine the AD docket on the Internet at http://www.regulations.gov by searching for and locating Docket No. FAA-2015-2466; or in person at Document Management Facility, U.S. Department of Transportation, Docket Operations, M-30, West Building Ground Floor, Room W12-140, 1200 New Jersey Avenue SE., Washington, DC 20590.

For service information identified in this AD, contact PIAGGIO AERO INDUSTRIES S.p.A, Airworthiness Office, Viale Generale Disegna,1 - 17038 Villanova d'Albenga, Savona, Italy; telephone: +39 010 6481800; fax: +39 010 6481374; email: technicalsupport@piaggioaerospace.it; Internet: www.piaggioaerospace.it/en/customer-support#care. You may view this referenced service information at the FAA, Small Airplane Directorate, 901 Locust, Kansas City, Missouri 64106. For information on the availability of this material at the FAA, call (816) 329-4148. It is also available on the Internet at http://www.regulations.gov by searching for Docket No. FAA-2015-2466.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

We issued a notice of proposed rulemaking (NPRM) to amend 14 CFR part 39 to add an AD that would apply to certain Piaggio Aero Industries S.p.A. Model P-180 airplanes. The NPRM was published in the Federal Register on July 6, 2015 (80 FR 38406). The NPRM proposed to correct an unsafe condition for the specified products and was based on mandatory continuing airworthiness information (MCAI) originated by an aviation authority of another country. The MCAI states:

In 1997, Piaggio Aero Industries S.p.A (PAI) developed a modification of the forward pressurized bulkhead, published through PAI Service Bulletin (SB) 80-0081, aiming to restore the safe fatigue life of the bulkhead structure.

Consequently, ENAC Italy (formerly RAI) issued Prescrizione di Aeronavigabilita (PA) 97-148 to require compliance with this SB.

After RAI PA 97-148 was issued, PAI issued SB 80-0081 Revision 2 to provide improved instructions for specific serial numbers. Prompted by this development, EASA issued AD 2010-0146 superseding PA 97-148 and requiring accomplishment of instruction of PAI issued SB 80-0081 Revision 2.

After that AD was issued, PAI issued SB 80-0081 Revision 3 to make the instructions for inspection (and, depending on findings, rework/reinforcement) applicable to all aeroplanes.

For the reasons described above, this AD retains the requirements of EASA AD 2010-0146, which is superseded, requires inspection and, depending on findings, reinforcement of the pressurized bulkhead structure on extended population of aeroplanes. This AD also specifies that certain aeroplanes modified in accordance with SB 80-0081 up to Revision 2 need to be inspected and, depending on findings, reinforced as required by this AD.

The MCAI can be found in the AD docket on the Internet at http://www.regulations.gov/#!documentDetail;D=FAA-2015-2466-0002.

Comments

We gave the public the opportunity to participate in developing this AD. We received no comments on the NPRM (80 FR 38406, July 6, 2015) or on the determination of the cost to the public.

Conclusion

We reviewed the relevant data and determined that air safety and the public interest require adopting the AD as proposed except for minor editorial changes. We have determined that these minor changes:

• Are consistent with the intent that was proposed in the NPRM (80 FR 38406, July 6, 2015) for correcting the unsafe condition; and

• Do not add any additional burden upon the public than was already proposed in the NPRM (80 FR 38406, July 6, 2015).

Related Service Information Under 1 CFR Part 51

We reviewed PIAGGIO AERO INDUSTRIES S.p.A. Service Bulletin 80-0081, Revision No. 3, dated: January 20, 2015. The service information describes procedures for inspection and, depending on findings, rework/reinforcement of the bulkhead. This service information is reasonably available because the interested parties have access to it through their normal course of business or by the means identified in the ADDRESSES section of the AD.

Costs of Compliance

We estimate that this AD will affect 28 products of U.S. registry. We also estimate that it will take about 1 work-hour per product to comply with the basic requirements of this AD. The average labor rate is $85 per work-hour.

Based on these figures, we estimate the cost of this AD on U.S. operators to be $2,380, or $85 per product.

In addition, we estimate that any necessary follow-on actions will take about 88 work-hours and require parts costing $30,000, for a cost of $37,480 per product. We have no way of determining the number of products that may need these actions.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2015-2466; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2015-19-11 PIAGGIO AERO INDUSTRIES S.p.A: Amendment 39-18273; Docket No. FAA-2015-2466; Directorate Identifier 2015-CE-018-AD.

(a) Effective Date

This airworthiness directive (AD) becomes effective November 3, 2015.

(b) Affected ADs

None.

(c) Applicability

This AD applies to PIAGGIO AERO INDUSTRIES S.p.A P-180 Model P-180 airplanes, serial numbers (S/N) 1004 through 1033, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as the need to restore the safe fatigue life of the bulkhead structure. We are issuing this AD to correct the safe fatigue life of the airplane.

(f) Actions and Compliance

(1) Unless already done, do the actions in paragraphs (f)(2) through (f)(4) of this AD at whichever of the following compliance times occurs later:

(i) Within 1,500 hours time-in-service (TIS) after November 3, 2015 (the effective date of this AD), but not to exceed 6,000 hours total hours TIS on the airplane; or

(ii) Within 200 hours TIS after November 3, 2015 (the effective date of this AD) or 6 months after November 3, 2015 (the effective date of this AD), whichever occurs first.

(2) Inspect (visually or using a standard endoscope) the forward pressurized bulkhead to verify presence of bulkhead reinforcement following Part A1 of the Accomplishment Instructions of PIAGGIO AERO INDUSTRIES S.p.A. Service Bulletin 80-0081, Revision No. 3, dated: January 20, 2015.

(i) If the inspection results indicate that the reinforcements are properly installed, ascertain (visually or by means of standard endoscope equipment) that there are no cracks or defects. If cracks or defects are identified, before further flight, contact Piaggio Aero Industries at the address specified in paragraph (i)(3) of this AD for an FAA-approved repair scheme, approved specifically for this AD, and incorporate that repair.

(ii) If the inspection results indicate that the reinforcements are not installed, reinforce the forward pressurized bulkhead following Part A2 of the Accomplishment Instructions of PIAGGIO AERO INDUSTRIES S.p.A. Service Bulletin 80-0081, Revision No. 3, dated: January 20, 2015.

(3) Modify the forward pressurized bulkhead following Part C of the Accomplishment Instructions of PIAGGIO AERO INDUSTRIES S.p.A. Service Bulletin 80-0081, Revision No. 3, dated: January 20, 2015.

(4) This AD allows credit for the actions required in paragraphs (f)(2)(ii) and (f)(3) of this AD if done before November 3, 2015 (the effective date of this AD) following the instructions of PIAGGIO AERO INDUSTRIES S.p.A. Service Bulletin 80-0081, Original Issue, dated: April 28, 1997; PIAGGIO AERO INDUSTRIES S.p.A. Service Bulletin 80-0081, Revision No. 1, dated: May 11, 2010; or PIAGGIO AERO INDUSTRIES S.p.A. Service Bulletin 80-0081, Revision No. 2, dated: July 19, 2010.

(g) Other FAA AD Provisions

The following provisions also apply to this AD:

(1) Alternative Methods of Compliance (AMOCs): The Manager, Standards Office, FAA, has the authority to approve AMOCs for this AD, if requested using the procedures found in 14 CFR 39.19. Send information to ATTN: Mike Kiesov, Aerospace Engineer, FAA, Small Airplane Directorate, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2015-0071, dated April 30, 2015; PIAGGIO AERO INDUSTRIES S.p.A. Service Bulletin 80-0081, Original Issue, dated: April 28, 1997; PIAGGIO AERO INDUSTRIES S.p.A. Service Bulletin 80-0081, Revision No. 1, dated: May 11, 2010; and PIAGGIO AERO INDUSTRIES S.p.A. Service Bulletin 80-0081, Revision No. 2, dated: July 19, 2010, for related information. The MCAI can be found in the AD docket on the Internet at http://www.regulations.gov/#!documentDetail;D=FAA-2015-2466-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) PIAGGIO AERO INDUSTRIES S.p.A. Service Bulletin 80-0081, Revision No. 3, dated: January 20, 2015.

(ii) Reserved.

(3) For PIAGGIO AEROSPACE service information identified in this AD, contact PIAGGIO AERO INDUSTRIES S.p.A, Airworthiness Office, Viale Generale Disegna, 1—17038 Villanova d'Albenga, Savona, Italy; telephone: +39 010 6481800; fax: +39 010 6481374; email: technicalsupport@piaggioaerospace.it; Internet: www.piaggioaerospace.it/en/customer-support#care.

(4) You may view this service information at the FAA, Small Airplane Directorate, 901 Locust, Kansas City, Missouri 64106. For information on the availability of this material at the FAA, call (816) 329-4148. In addition, you can access this service information on the Internet at http://www.regulations.gov by searching for and locating Docket No. FAA-2015-2466.

(5) You may view this service information that is incorporated by reference at the National Archives and Records Administration (NARA). For information on the availability of this material at NARA, call 202-741-6030, or go to: http://www.archives.gov/federal-register/cfr/ibr-locations.html.

Issued in Kansas City, Missouri, on September 17, 2015.
Melvin Johnson,
Acting Manager, Small Airplane Directorate, Aircraft Certification Service.

[FR Doc. 2015-24257 Filed 9-28-15; 8:45 am]

BILLING CODE 4910-13-P